DEPARTMENT OF ENERGY

[Docket No. PP-89-1]

Notice of Intent To Prepare an Environmental Impact Statement and To Conduct Public Scoping Meetings and Notice of Floodplain and Wetlands Involvement; Bangor Hydro-Electric Company

AGENCY: Department of Energy (DOE).

ACTION: Notice of intent to prepare an environmental impact statement and to conduct public scoping meetings, and notice of floodplain and wetlands involvement.

SUMMARY: Bangor Hydro-Electric Company (BHE) has applied to DOE to amend Presidential Permit PP-89, which authorizes BHE to construct a single-circuit 345,000-volt (345-kV) electric transmission line across the U.S. international border in the vicinity of Baileyville, Maine. The proposed transmission line would originate at BHE's existing Orrington Substation, located in Orrington, Maine, and extend eastward approximately 85 miles to the international border between the United States and Canada where it would connect with similar facilities to be owned by New Brunswick Power Corporation (NB Power). DOE has determined that amendment of the Presidential permit would constitute a major Federal action that may have a significant impact upon the environment within the meaning of the National Environmental Policy Act of 1969 (NEPA). For this reason, DOE intends to prepare an environmental impact statement (EIS) entitled, “The Northeast Reliability Interconnect” (DOE/EIS-0372), to address potential environmental impacts from the proposed action and the range of reasonable alternatives.

The purpose of this Notice of Intent is to inform the public about the proposed action, announce plans to conduct three public scoping meetings in the vicinity of the proposed transmission line, invite public participation in the scoping process, and solicit public comments for consideration in establishing the scope and content of the EIS. Because the proposed project may involve an action in a floodplain or wetland, the draft EIS will include a floodplain and wetlands assessment and the final EIS or record of decision will include a floodplain statement of findings in accordance with DOE regulations for compliance with floodplain and wetlands environmental review requirements (10 CFR part 1022).

DATES: DOE invites interested agencies, organizations, Native American tribes, and members of the public to submit comments or suggestions to assist in identifying significant environmental issues and in determining the appropriate scope of the EIS. The public scoping period starts with the publication of this notice in the Federal Register and will continue until December 2, 2004. Written and oral comments will be given equal weight, and DOE will consider all comments received or postmarked by December 2, 2004, in defining the scope of this EIS. Comments received or postmarked after that date will be considered to the extent practicable.

Dates for the public scoping meetings are:

1. November 17, 2004; 7 p.m. to 9 p.m., Baileyville, Maine.

2. November 18, 2004; 1 p.m. to 3 p.m., South Lincoln, Maine.

3. November 18, 2004; 7 p.m. to 9 p.m., Brewer, Maine.

Requests to speak at a public scoping meeting(s) should be received by Dr. Jerry Pell at the addresses indicated below on or before November 10, 2004. Requests to speak may also be made at the scoping meetings when registering for the meetings. However, persons who submitted advance requests to speak will be given priority if time should be limited during the meetings.

ADDRESSES: Written comments or suggestions on the scope of the EIS and requests to speak at the scoping meeting(s) should be addressed to: Dr. Jerry Pell, Office of Fossil Energy (FE-27), U.S. Department of Energy, 1000 Independence Avenue, SW., Washington DC 20585; facsimile: 202-318-7761, or electronic mail at Jerry.Pell@hq.doe.gov.

Please note that regular postal mail to DOE tends to be delayed because of anthrax screening. In order to avoid these delays, if you wish to comment by mail, we suggest that your response be submitted either by using overnight service, or that your letter first be sent to us by fax or e-mail, and then followed by regular mailing of the original documents.

The locations of the scoping meetings are:

1. Woodland Elementary School, 23 Fourth Avenue, Baileyville, Maine.

2. Mattanawcook Academy, 33 Reed Drive, Lincoln, Maine.

3. Jeff's Catering Banquet & Convention Center, East West Industrial Park, 5 Coffin Avenue, Brewer, Maine.

FOR FURTHER INFORMATION CONTACT: For information on the proposed project or to receive a copy of the Draft EIS when it is issued, contact Dr. Pell by any of the means listed in the ADDRESSES section of this notice. The main text of the BHE application is on the DOE Fossil Energy Web site at http://fossil.energy.gov/programs/electricityregulation, under Pending Proceedings and PP-89-1. The complete BHE application, including associated maps and drawings, can be obtained by contacting Dr. Jerry Pell as noted in the ADDRESSES section above. Additional information and a description of the proposed project may be found on the BHE project Web site at http://www.bhe.com/nri.

For general information on the DOE NEPA review process, contact:

Carol M. Borgstrom, Director, Office of NEPA Policy and Compliance (EH-42), U.S. Department of Energy, Washington, DC 20585; phone: 202-586-4600 or leave a message at 800-472-2756; facsimile: 202-586-7031.

SUPPLEMENTARY INFORMATION:

Background and Need for Agency Action

Executive Order 10485, as amended by Executive Order 12038, requires that a Presidential permit be issued by DOE before electric transmission facilities may be constructed, operated, maintained, or connected at the U.S. international border. The Executive Order provides that a Presidential permit may be issued after a finding that the proposed project is consistent with the public interest and after concurrence by the Departments of State and Defense. In determining consistency with the public interest, DOE considers the impacts of the proposed project on the reliability of the U.S. electric power system and on the environment. The regulations implementing the Executive Order have been codified at 10 CFR 205.320-205.329. Issuance of the permit indicates that there is no Federal objection to the project, but does not mandate that the project be completed.

BHE originally applied to DOE for a Presidential permit on December 16, 1988. DOE published a notice of that application in the Federal Register on January 19, 1989 (54 FR 2201), and a Notice of Intent to Prepare an Environmental Impact Statement and to Conduct Public Scoping Meetings in the Federal Register on May 22, 1989 (54 FR 22006). In December 1993, DOE published the draft EIS titled, “Construction and Operation of the Proposed Bangor Hydro-Electric Company's Second 345-kV Transmission Tie Line to New Brunswick.” (DOE/EIS-0166). DOE issued a final EIS in August 1995, and in a record of decision signed on January 18, 1996 (61 FR 2244), decided to grant Presidential Permit PP-89.

On January 22, 1996, DOE issued Presidential Permit PP-89 authorizing BHE to construct, operate, maintain, and connect a 345-kV electric transmission line that would extend eastward approximately 85 miles from BHE's existing Orrington Substation to the U.S.-Canada border near Baileyville, Maine. At the border, the proposed transmission line was to connect to similar facilities to be built by NB Power, a Crown corporation of Canada's Province of New Brunswick. However, the authorized facilities have not been constructed.

On September 30, 2003, BHE applied to DOE to amend Presidential Permit PP-89 to allow for the construction of the project along a different route than those routes analyzed in the 1995 EIS. Since the issuance of PP-89, a natural gas transmission line has been constructed by Maritimes & Northeast Pipeline, L.L.C., in the same general vicinity as the BHE project and in a corridor approved by the State of Maine Department of Environmental Protection. The Board of Environmental Protection, Maine's primary environmental review entity, now has indicated its preference for BHE to consolidate the location of all utility facilities in the area by constructing the proposed electric transmission line along a route more closely aligned with the existing pipeline corridor.

The international transmission line now proposed by BHE is identical in design to the line originally analyzed in the 1995 EIS and authorized in Presidential Permit PP-89. It would be a single-circuit 345-kV alternating current transmission line consisting of two overhead shield wires and three phases with two conductors per phase. The transmission line is proposed to have a thermal capacity of at least 1,000 megawatts. The line would originate at BHE's existing Orrington Substation and extend eastward approximately 85 miles, crossing the U.S.-Canada border near Baileyville, Maine. In Canada, the BHE facilities would interconnect with similar facilities to be owned by NB Power and continue approximately 60 miles to the switchyard at the Point Lepreau Nuclear Generating Station. Canada's National Energy Board authorized construction of the Canadian portion of the facilities in May 2003. The proposed transmission line project that will be the subject of this EIS differs from the original project only in the proposed routes between the Orrington Substation and the international border crossing near Baileyville, Maine.

BHE has identified four alternative routes for constructing the proposed transmission line: (1) The Consolidated Corridors route; (2) the Previously Permitted route; (3) the Maine Electric Power Company (MEPCO) South route; and (4) BHE's Preferred route. BHE states that it has identified its preferred alternative by working with representatives of large landowners, operators of nearby electric and pipeline utility facilities, state and Federal agencies, local tribes, and interest groups to develop a matrix of environmental factors to consider for route selection. BHE also states that it considered stakeholder and public input it received through outreach efforts, mail communications, and electronically via the BHE project Web site. BHE states that the environmental factors it considered in selecting its preferred alternative included land use, wetlands and water bodies, flora, fauna, fisheries, recreational and visual considerations, and cultural resources.

All alternative routes originate at the Orrington Substation and generally parallel an existing MEPCO transmission line and Maritimes & Northeast Pipeline for approximately 12 miles until they reach Blackman's Stream.

Consolidated Corridors route: From Blackman's Stream, this route continues northward paralleling the existing MEPCO transmission line and the Maritimes & Northeast Pipeline for an additional 8 miles until reaching Stud Mill Road. At Stud Mill Road, this route turns eastward generally paralleling Stud Mill Road and the Maritimes & Northeast Pipeline right-of-way for a distance of approximately 65 miles. The line would cross the international border at Baileyville, Maine, at the location previously permitted in PP-89.

Previously Permitted Route: From Blackman's Stream, this route turns eastward for approximately 3.5 miles before turning northward until it meets Stud Mill Road. This route then generally follows Stud Mill Road, but deviates from it in several locations before it crosses the international border at Baileyville, Maine.

MEPCO South Route: From Blackman's Stream, this route continues north to Chester along the MEPCO line. The route then heads east roughly paralleling State Route 6 before crossing the international border at Baileyville, Maine.

BHE's Preferred route: This route incorporates a majority of the Consolidated Corridors route but deviates from it in two locations based on input received from various stakeholders. BHE's preferred route follows the three other alternative routes from Orrington Substation until it reaches Blackman's Stream. From Blackman's Stream, this route follows the Previously Permitted route until Stud Mill Road, at which point it then follows the Consolidated Corridors route until the vicinity of the Maritimes & Northeast Pipeline Baileyville Compressor Station. Near the compressor station, the line deviates to the north of the Consolidated Corridors route to maintain approximately 3600 feet of separation between the transmission line and the Baileyville Compressor Station.

All four alternative routes would cross primarily commercial forest in regrowth. All four alternative routes also would cross 100-year floodplains and wetlands, including some waterfowl and wading bird habitat. The MEPCO South Route would cross the Penobscot River. All alternatives would cross both perennial and intermittent streams, and may cross the Machias, East Machias and Narraguagus Rivers or associated tributaries, depending on the alternative. Project activities would include clearing rights-of-way and access roads, digging tower footings, setting transmission towers, seeding/mulching and other erosion control work, and hanging transmission wires.

The EIS will consider the environmental impacts of constructing the proposed transmission line along these alternative routes and the No Action alternative. Under the No Action alternative, the EIS will analyze the impacts associated with “no action.” Because the proposed action is the amendment of Presidential Permit PP-89 to allow construction of the proposed transmission line over a different route from that authorized by the permit, “no action” means that the permit would not be amended and that the original permit would remain in effect. This would mean that the proposed transmission line could be constructed only over the Previously Permitted route.

However, the EIS will consider any additional reasonable alternatives that result from comments received in response to the scoping process described in this notice. One alternative already identified by DOE is the rescission of Presidential Permit PP-89. Rescission of the permit would mean that the permitted transmission line could not be constructed. This alternative will address the environmental impacts that are reasonably foreseeable to occur if Presidential Permit PP-89 is rescinded but no new permit is issued. However, this would not necessarily result in maintenance of the status quo or no environmental impacts. It is possible that BHE and/or NB Power may take other actions to achieve the purpose of this project if the permitted or proposed transmission line is not built.

Identification of Environmental Issues

The purpose of this notice is to solicit comments and suggestions for consideration in the preparation of the EIS. As background for public comment, this notice contains a list of potential environmental issues that DOE has tentatively identified for analysis. This list is not intended to be all-inclusive or to imply any predetermination of impacts. Following is a preliminary list of issues that may be analyzed in the EIS:

(1) Socioeconomic and recreational impacts of development of the land tracts and their subsequent uses;

(2) Impacts on protected, threatened, endangered, or sensitive species of animals or plants or their critical habitats, including the bald eagle, Atlantic salmon, and shortnose sturgeon;

(3) Impacts on floodplains and wetlands;

(4) Impacts on archaeological, cultural, or historic resources;

(5) Impacts on human health and safety;

(6) Impacts on existing and future land uses;

(7) Visual impacts; and

(8) Disproportionately high and adverse impacts on minority and low-income populations, also known as environmental justice considerations.

Scoping Process

Interested parties are invited to participate in the scoping process, both to refine the preliminary alternatives and environmental issues to be analyzed in depth, and to eliminate from detailed study those alternatives and environmental issues that are not feasible or pertinent. The scoping process is intended to involve all interested agencies (Federal, state, county, and local), public interest groups, Native American tribes, businesses, and members of the public. Potential cooperating agencies may include but may not be limited to the U.S. Department of the Interior's Fish and Wildlife Service and Bureau of Indian Affairs, the National Marine Fisheries Service, the State of Maine Department of Environmental Protection, and the U.S. Army Corps of Engineers. Public scoping meetings will be held at the locations, dates, and times indicated above under the DATES and ADDRESSES sections. These scoping meetings will be informal. The presiding officer will establish only those procedures needed to ensure that everyone who wishes to speak has a chance to do so and that DOE understands all issues and comments. Speakers will be allocated approximately 5 minutes for their oral statements. Depending upon the number of persons wishing to speak, the presiding officer may allow longer times for representatives of organizations. Consequently, persons wishing to speak on behalf of an organization should identify that organization in their request to speak. Persons who have not submitted a request to speak in advance may register to speak at the scoping meeting(s), but advance requests are encouraged. Meetings will begin at the times specified and will continue until all those present who wish to participate have had an opportunity to do so. Should any speaker desire to provide for the record further information that cannot be presented within the designated time, such additional information may be submitted in writing by the date listed in the DATES section. Oral, written, and electronic (i.e., by facsimile or by e-mail) comments will be impartially considered and given equal weight by DOE.

Draft EIS Schedule and Availability

The Draft EIS is scheduled to be issued in June 2005, at which time its availability will be announced in the Federal Register and local media and public comments again will be solicited. The Draft EIS will be made available for public inspection at several public libraries and reading rooms in Maine, and notice of these locations will be provided in the Federal Register and local media at a later date. However, readers are cautioned that many considerations enter into the preparation of the Draft EIS and the actual issuance date may differ from the above.

People who do not wish to submit comments or suggestions at this time but who would like to receive a copy of the Draft EIS for review and comment when it is issued should notify Dr. Pell as provided in the ADDRESSES section above.

Issued in Washington, DC, on October 27, 2004.
Steven V. Cary,
Acting Assistant Secretary, Office of Environment, Safety and Health.

[FR Doc. 04-24404 Filed 11-1-04; 8:45 am]

BILLING CODE 6450-01-P